DEPARTMENT OF HEALTH AND HUMAN SERVICES

National Institutes of Health

The National Heart, Lung, and Blood Institute (NHLBI) Strategic Visioning: Draft Strategic Research Priorities; Request for Comments

SUMMARY: The National Heart, Lung, and Blood Institute (NHLBI) is soliciting comments from the public on its Draft Strategic Research Priorities, which will help inform Institute-solicited research activities over the next decade. The draft document is available through the NHLBI Strategic Visioning Web site (https://www.nhlbi.nih.gov/about/documents/strategic-visioning/public-comment-period).

DATES: To ensure consideration, written comments must be received by March 7, 2016.

ADDRESSES: The Draft Strategic Research Priorities can be viewed here: (https://www.nhlbi.nih.gov/about/documents/strategic-visioning/public-comment-period). Please email comments to NHLBI_Vision@mail.nih.gov. Email comments are preferred, but comments may also be submitted by regular mail to: NHLBI Office of the Director, Attn: Strategic Visioning Team, National Heart, Lung, and Blood Institute, Building 31, Room 5A48, 31 Center Drive MSC 2486, Bethesda, MD 20892.

FOR FURTHER INFORMATION CONTACT: Dana Camak, Executive Assistant, Office of Science Policy, Engagement, Education, and Communications at the National Heart, Lung, and Blood Institute, NIH, 31 Center Dr., Building 31, Room 4A10, Bethesda, MD 20892-2480. Telephone: 301-496-4236. Email: NHLBI_Vision@mail.nih.gov. Additional information may be obtained at https://www.nhlbi.nih.gov/about/documents/strategic-visioning/public-comment-period.

SUPPLEMENTARY INFORMATION:

Background

For more than 60 years, the NHLBI has supported research to reduce the burden of heart, lung, blood, and sleep disorders and diseases. For example, long-term research investments in cardiovascular basic, clinical and population sciences have contributed to a 78% decrease in death rates due to coronary heart disease, a greater understanding of the complexity of chronic lung disease, and to an increase in life expectancy for persons with sickle cell disease from 14 years to 40-60 years. However, heart, lung, and blood diseases remain leading causes of death for American men and women, and we face ongoing health challenges such as an aging population, rising health care costs, and continued gender and racial disparities.

Over the last year, NHLBI has been engaged in a Strategic Visioning process that engages the NHLBI community to inform Institute-solicited research activities. The goals for the Strategic Visioning process span the NHLBI mission and include research on health and disease in heart, lung, blood, and sleep systems; the translation of research for prevention, diagnosis, and treatment of diseases; and the support of training and resources for biomedical researchers across the landscape.

The strength of the NHLBI's Strategic Visioning process rests in the collective input of the diverse perspectives within the heart, lung, blood, and sleep community, including, but not limited to, scientists, academic institutions, patient communities, and the general public, allowing these stakeholders the opportunity to identify and catalyze areas where targeted investments are needed. In spring of 2015, the community identified scientific opportunities (Compelling Questions, or CQs) and barriers to research progress (Critical Challenges, or CCs) facing heart, lung, blood, and sleep research. NHLBI leadership, staff, and advisory groups reviewed the ideas to identify the highest priorities for the Institute based on timeliness, feasibility, and overall ability to advance the fields of study.

Ultimately, more than 1,000 ideas were submitted to the Strategic Visioning Forum. Ideas came from all 50 states and from countries across the globe, representing diverse perspectives of scientists, academic institutions, patient communities, and the general public.

Together the NHLBI, its Board of Extramural Experts, and the NHLBI Advisory Council, refined and synthesized the CQs and CCs as appropriate, and organized them under Objectives. The resulting CQs and CCs, as delineated in the Draft Strategic Research Priorities document, address important research avenues and support the Institute's strategic goals. The Draft Strategic Research Priorities document is not meant to encompass NHLBI's entire research portfolio, but instead is meant to reflect those areas of study that are currently deemed to be the most important, timely, and feasible for the Institute to address in its targeted/solicited research portfolio in the next decade.

Request for Comments

This notice invites public comment on NHLBI's Draft Strategic Research Priorities. We seek diverse perspectives including, but not limited to, that of patients, patient advocates, clinicians, and researchers, as well as federal agencies and for-profit and not-for-profit stakeholders. The comments will be important factors in finalizing the document and thereby shaping NHLBI's Institute-solicited future research directions.

Privacy Act Notification Statement: Responses to this notice are voluntary. Respondents are advised that the Government is under no obligation to acknowledge receipt of the information received or provide feedback to respondents with respect to any information submitted. No proprietary, classified, confidential, or sensitive information should be included in your response. The NHLBI may use the information gathered to develop grant, contract, or other funding priorities and initiatives.

This notice is for information and planning purposes only and should not be construed as a solicitation or as an obligation on the part of the Federal Government in general, the NIH, or the NHLBI specifically. The NHLBI does not intend to make any awards based on responses to this RFI or pay for the preparation of any information submitted or for the Government's use of such information.

Dated: January 26, 2016.
Gary H. Gibbons,
Director, National Heart, Lung, and Blood Institute.

[FR Doc. 2016-02120 Filed 2-3-16; 8:45 am]

BILLING CODE 4140-01-P